DEPARTMENT OF ENERGY

Federal Energy Regulatory Commission

Combined Notice of Filings

Take notice that the Commission has received the following Natural Gas Pipeline Rate and Refund Report filings:

Docket Numbers: RP11-2245-000.

Applicants: Kinder Morgan Interstate Gas Transmission LLC.

Description: Kinder Morgan Interstate Gas Transmission LLC. submits tariff filing per 154.204: Negotiated Rate 2011-06-30 Mieco to be effective 7/2/2011.

Filed Date: 07/01/2011.

Accession Number: 20110701-5087.

Comment Date: 5 p.m. Eastern Time on Wednesday, July 13, 2011.

Docket Numbers: RP11-2246-000.

Applicants: ANR Pipeline Company.

Description: ANR Pipeline Company submits tariff filing per 154.601: Negotiated Rate, Northern Indiana PS to be effective 7/1/2011.

Filed Date: 07/01/2011.

Accession Number: 20110701-5088.

Comment Date: 5 p.m. Eastern Time on Wednesday, July 13, 2011.

Docket Numbers: RP11-2247-000.

Applicants: Gulf South Pipeline Company, LP.

Description: Gulf South Pipeline Company, LP submits tariff filing per 154.204: Willmut to BP Capacity Release Negotiated Rate Agreement Filing to be effective 7/1/2011.

Filed Date: 07/01/2011.

Accession Number: 20110701-5090.

Comment Date: 5 p.m. Eastern Time on Wednesday, July 13, 2011.

Docket Numbers: RP11-2248-000.

Applicants: Gulf South Pipeline Company, LP.

Description: Gulf South Pipeline Company, LP submits tariff filing per 154.204: HK 37733 to Texla 38957 Capacity Release Negotiated Rate Agreement to be effective 7/1/2011.

Filed Date: 07/01/2011.

Accession Number: 20110701-5098.

Comment Date: 5 p.m. Eastern Time on Wednesday, July 13, 2011.

Docket Numbers: RP11-2249-000.

Applicants: WTG Hugoton, LP.

Description: WTG Hugoton, LP submits tariff filing per 154.203: Annual Fuel Retention Percentage Filing 2011-2012 to be effective 8/1/2011.

Filed Date: 07/01/2011.

Accession Number: 20110701-5154.

Comment Date: 5 p.m. Eastern Time on Wednesday, July 13, 2011.

Docket Numbers: RP11-2250-000.

Applicants: Texas Gas Transmission, LLC.

Description: Texas Gas Transmission, LLC submits tariff filing per 154.204: No-Notice Capacity Reductions Filing to be effective 8/1/2011.

Filed Date: 07/01/2011.

Accession Number: 20110701-5186.

Comment Date: 5 p.m. Eastern Time on Wednesday, July 13, 2011.

Docket Numbers: RP11-2251-000.

Applicants: Gulf South Pipeline Company, LP.

Description: Request for Termination of Certain Gathering Services of Gulf South Pipeline Company, LP.

Filed Date: 07/01/2011.

Accession Number: 20110701-5210.

Comment Date: 5 p.m. Eastern Time on Wednesday, July 13, 2011.

Docket Numbers: RP11-2252-000.

Applicants: Big Sandy Pipeline, LLC.

Description: Big Sandy Pipeline, LLC submits tariff filing per 154.403: Annual Electric Power Cost Tracker Surcharge Filing to be effective 8/1/2011.

Filed Date: 07/01/2011.

Accession Number: 20110701-5229.

Comment Date: 5 p.m. Eastern Time on Wednesday, July 13, 2011.

Docket Numbers: RP11-2253-000.

Applicants: Columbia Gas Transmission, LLC.

Description: Columbia Gas Transmission, LLC submits tariff filing per 154.204: TCRA Out-Of-Cycle to be effective 8/1/2011.

Filed Date: 07/01/2011.

Accession Number: 20110701-5250.

Comment Date: 5 p.m. Eastern Time on Wednesday, July 13, 2011.

Docket Numbers: RP11-2254-000.

Applicants: Midwestern Gas Transmission Company.

Description: Midwestern Gas Transmission Company submits tariff filing per 154.204: Omnibus to be effective 8/1/2011.

Filed Date: 07/01/2011.

Accession Number: 20110701-5267.

Comment Date: 5 p.m. Eastern Time on Wednesday, July 13, 2011.

Docket Numbers: RP11-2255-000.

Applicants: MIGC LLC.

Description: MIGC LLC submits tariff filing per 154.204: MIGC LLC Fuel Filing to be effective 8/1/2011.

Filed Date: 07/01/2011.

Accession Number: 20110701-5280.

Comment Date: 5 p.m. Eastern Time on Wednesday, July 13, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Dated: July 5, 2011.
Nathaniel J. Davis, Sr.,
Deputy Secretary.

[FR Doc. 2011-17832 Filed 7-14-11; 8:45 am]

BILLING CODE 6717-01-P